DEPARTMENT OF HOMELAND SECURITY

Coast Guard

[USCG-2012-0797]

National Maritime Security Advisory Committee; Meeting

AGENCY: Coast Guard, DHS.

ACTION: Notice of Federal Advisory Committee Meeting.

SUMMARY: The National Maritime Security Advisory Committee (NMSAC) will meet on September 24-25, 2013 in Washington, DC to discuss various issues relating to national maritime security. This meeting will be open to the public.

DATES: The Committee will meet on Tuesday, September 24, 2013 from 9:00 a.m. to 4:00 p.m. and Wednesday, September 25, 2013 from 8:00 a.m. to 11:00 a.m. This meeting may close early if all business is finished. All written material and requests to make oral presentations should reach the Coast Guard on or before September 13, 2013.

ADDRESSES: This meeting will be held at the new Coast Guard Headquarters, 2703 Martin Luther King Jr. Avenue SE., Washington, DC 20593, Room 6i10-01-b-17. Due to security at the new Headquarters, members of the public wishing to attend shall register with Mr. Ryan Owens, Alternate Designated Federal Officer (ADFO) of NMSAC, telephone 202-372-1108 or ryan.f.owens@uscg.mil no later than September 18, 2013. Additionally, all visitors to the Coast Guard Headquarters must provide identification in the form of Government Issue picture identification card for access to the facility. Please arrive at least 30 minutes before the planned start of the meeting in order to pass through security.

This meeting will be broadcast via a web enabled interactive online format and teleconference line. To participate via teleconference, dial 866-810-4853; the pass code to join is 9760138#. Additionally, if you would like to participate in this meeting via the online web format, please log onto https://share.dhs.gov/nmsac/ and follow the online instructions to register for this meeting.

For information on facilities or services for individuals with disabilities or to request special assistance at the meeting, contact the person listed in the FOR FURTHER INFORMATION CONTACT section as soon as possible.

To facilitate public participation, we are inviting public comment on the issues to be considered by the Committee as listed in the “Agenda” section below. Comments that the public wishes the members to see prior to the meeting should be submitted no later than September 18, 2013. Identify your comments by docket number [USCG-2012-0797] using one of the following methods:

• Federal eRulemaking Portal: http://www.regulations.gov. Follow the instructions for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9:00 a.m. and 5:00 p.m., Monday through Friday, except Federal Holidays. The telephone number is 202-366-9329.

Instructions: All submissions received must include the words “Department of Homeland Security” and docket number [USCG-2012-0797]. All submissions received will be posted without alteration at www.regulations.gov, including any personal information provided. You may review a Privacy Act notice regarding our public dockets in the January 17, 2008 issue of the Federal Register (73 FR 3316).

Docket: Any background information or presentations available prior to the meeting will be published in the docket. For access to the docket to read background documents or submissions received by NMSAC, go to http://www.regulations.gov insert “USCG-2012-0797” in the “Search” box, and follow instructions on the Web site.

Public comments will be sought throughout the meeting by the Designated Federal Officer (DFO) as specific issues are discussed by the committee. Additionally, public oral comment period will be held during the meetings on September 24, 2013, from 3:30 p.m. to 4:00 p.m., and September 25, 2013 from 10:30 a.m. to 11:00 a.m. Speakers are requested to limit their comments to 5 minutes. Please note that the public comment period will end following the last call for comments. Contact the person listed in the FOR FURTHER INFORMATION CONTACT section below to register as a speaker.

FOR FURTHER INFORMATION CONTACT: Mr. Ryan Owens, ADFO of NMSAC, 2703 Martin Luther King Jr. Avenue SE., Washington, DC 20593, Stop 7581, Washington, DC 20593-7581; telephone 202-372-1108 or email ryan.f.owens@uscg.mil. If you have any questions on viewing or submitting material to the docket, call Barbara Hairston, Program Manager, Docket Operations, telephone 202-366-9826.

SUPPLEMENTARY INFORMATION: Notice of this meeting is given under the Federal Advisory Committee Act (FACA), Title 5, United States Code, Appendix (Pub. L. 92-463). NMSAC operates under the authority of 46 U.S.C. 70112. NMSAC provides advice, consults with, and makes recommendations to the Secretary of Homeland Security, via the Commandant of the Coast Guard, on matters relating to national maritime security.

Agenda of Meeting

Day 1

The committee will meet to review, discuss and formulate recommendations on the following issues:

(1) Cyber Security Executive Order. On February 12, 2013, President Barack Obama signed an Executive Order ¹ to strengthen the cybersecurity of critical infrastructure by increasing information sharing and by jointly developing and implementing a framework of cybersecurity practices with our industry partners. This is a continuation of a discussion held during the April 2013 public meeting. NMSAC will meet to review the Executive Order and begin initial work in developing a framework for the maritime community.

¹ The Executive Order (not numbered) is available for viewing online at the White House's Web site: http://www.whitehouse.gov/the-press-office/2013/02/12/executive-order-improving-critical-infrastructure-cybersecurity.

(2) Presidential Policy Directive-21.² On February 12, 2013, the White House Office of the Press Secretary published a Presidential Policy Directive (PPD) on critical infrastructure security and resilience. PPD-21 updates the national approach from Homeland Security Presidential Directive-7 (issued in 2003) to adjust to the new risk environment, understand key lessons learned, and drive toward enhanced capabilities. This is a continuation of a discussion held during the April 2013 public meeting. NMSAC will meet to discuss and make recommendations on Coast Guard's implementation of PPD-21 that will impact the maritime community.

² Presidential Policy Directive-21 is available for viewing online at the White House's Web site: http://www.whitehouse.gov/the-press-office/2013/02/12/presidential-policy-directive-critical-infrastructure-security-and-resil.

(3) Chemical Facility Safety and Security Executive Order. President Obama signed an Executive Order ³ on August 1, 2013, with the goal of improving information sharing among Federal departments and agencies and furthering coordination efforts with State, Local, and Tribal entities involved in chemical regulation and response. In addition, the Executive Order directs Federal agencies to look for opportunities to modernize policies, regulations and standards and to seek out stakeholder input to identify best practices. NMSAC will meet to discuss and make recommendations on the Executive Order impacts on the maritime community.

³ The Executive Order is available for viewing online at the White House's Web site: http://www.whitehouse.gov/the-press-office/2013/08/01/executive-order-improving-chemical-facility-safety-and-security.

(4) Transportation Security Worker Identification Credential (TWIC) Notice of Proposed Rule Making. NMSAC will meet to receive an update, discuss concerns and make recommendations concerning this Rule Making project.

(5) Radiation Portal Monitoring. NMSAC will meet to review and discuss the Radiation Portal Monitoring Program and the challenges involved in replacing/altering current monitor programs within ports.

(6) Regulatory Agenda. NMSAC will meet to review, discuss and make recommendations to the Coast Guard's future regulatory agenda.

(7) Public Comment period.

Day 2

The committee will meet to receive oral reports on the following issues:

(1) Lessons learned/best practices encountered during Maritime Security (MARSEC) Level increase over the Boston Marathon bombing.

(2) Lessons learned/best practices from Hurricane Sandy Recovery.

(3) Facility Security Office (FSO) training initiatives. NMSAC will discuss/make recommendations on current FSO training initiatives.

(4) Future Security issues. NMSAC will be tasked to provide guidance on emergent security issues. This will help the Coast Guard develop a long term vision for its maritime security program.

(4) Public comment period.

J.C. Burton,
Captain, U.S. Coast Guard, Director of Inspections and Compliance.

[FR Doc. 2013-21923 Filed 9-6-13; 8:45 am]

BILLING CODE 9110-04-P